DEPARTMENT OF HEALTH AND HUMAN SERVICES

National Institutes of Health

National Cancer Institute; Amended Notice of Meeting

Notice is hereby given of a change in the meeting of the National Cancer Institute Special Emphasis Panel, October 16, 2013, 04:00 p.m. to October 17, 2013, 05:00 p.m., Bethesda North Marriott Hotel & Conference Center, 5701 Marinelli Road, Bethesda, MD, 20852 which was published in the Federal Register on September 11, 2013, 78 FR 55750.

Due to the absence of either an FY 2014 appropriation or Continuing Resolution for the Department of Health and Human Services, the Provocative Questions—Group B: Tumor Development or Recurrence meeting is rescheduled for Oct. 31-Nov. 1, 2013 from 4:00 p.m. to 5:00 p.m. Additionally, the meeting location has changed to the Hilton Rockville Hotel, 1750 Rockville Pike, Rockville, MD 20852. The meeting is closed to the public.

Dated: October 22, 2013.
Melanie J. Gray,
Program Analyst, Office of Federal Advisory Committee Policy.

[FR Doc. 2013-25238 Filed 10-25-13; 8:45 am]

BILLING CODE 4140-01-P